NATIONAL CREDIT UNION ADMINISTRATION

Sunshine Act Meeting

Matter to be added to the agenda of an agency meeting. Federal Register citation of previous announcement: December 14, 2015 (80 FR 77379)

Time and Date: 11:00 a.m., Thursday, December 17, 2015.

Place: Board Room, 7th Floor, Room 7047, 1775 Duke Street, Alexandria, VA 22314-3428.

Status: Closed.

Additional Matter to be Considered: 3. Briefing on Supervisory Matter. Closed pursuant to Exemptions (8), (9)(i)(B) and (9)(ii).

For Further Information Contact: Gerard Poliquin, Secretary of the Board, Telephone: 703-518-6304

Gerard Poliquin,
Secretary of the Board.

[FR Doc. 2015-31871 Filed 12-15-15; 4:15 pm]

BILLING CODE 7535-01-P